DEPARTMENT OF COMMERCE

National Oceanic and Atmospheric Administration

RIN 0648-AW15

Fisheries of the Caribbean, Gulf of Mexico, and South Atlantic; Amendment 2 to the Fishery Management Plan for the Queen Conch Fishery of Puerto Rico and the U.S. Virgin Islands

AGENCY: National Marine Fisheries Service (NMFS), National Oceanic and Atmospheric Administration (NOAA), Commerce.

ACTION: Notice; intent to prepare a draft environmental impact statement (DEIS); scoping meetings; request for comments.

SUMMARY: The Caribbean Fishery Management Council (Council) in conjunction with NMFS intends to prepare a DEIS to describe and analyze management alternatives to be included in an amendment to the Fishery Management Plan (FMP) for the Queen Conch Fishery of Puerto Rico and the U.S. Virgin Islands (USVI). These alternatives will consider measures to reduce harvest of queen conch. The purpose of this notice of intent is to solicit public comments on the scope of issues to be addressed in the DEIS.

DATES: Written comments on the scope of issues to be addressed in the DEIS must be received by the Council or NMFS (see ADDRESSES below) by November 13, 2007. A series of scoping meetings will be held in October 2007. See SUPPLEMENTARY INFORMATION below for the specific dates, times, and locations of the scoping meetings.

ADDRESSES: You may submit comments on the proposed rule by any of the following methods:

• E-mail: 0648-AW15.Proposed@noaa.gov. Include in the subject line the following document identifier: 0648-AW15.

• Mail: Jason Rueter, Southeast Regional Office, NMFS, 263 13th Avenue South, St. Petersburg, FL 33701.

• Fax: 727-824-5308.

• Mail: Graciela Garcia-Moliner, Caribbean Fishery Management Council, 268 Muñoz Rivera Avenue, Suite 1108, San Juan, PR 00918-25772203;

• Fax: 787-766-6239.

• E-mail: Graciela.Garcia-Moliner@noaa.gov.

FOR FURTHER INFORMATION CONTACT: Graciela Garcia-Moliner; phone: 787-766-5927; fax: 787-766-6239; e-mail: Graciela.Garcia-Moliner@noaa.gov; or Jason Rueter; phone: 727-824-5350; fax: 727-824-5308; or e-mail: Jason.Rueter@noaa.gov.

SUPPLEMENTARY INFORMATION: St. Croix queen conch landings by commercial fishermen alone have exceeded sustainable harvest levels since the 2000-2001 fishing season. In 2005-2006 the commercial harvest was over four times sustainable levels. Additionally, there is an unknown but significant recreational harvest.

According to the NMFS Report on the Status of the U.S. Fisheries for 2006, queen conch is overfished and undergoing overfishing. Under current fishing practices, reductions in mortality are not expected to be sufficient in the queen conch fishery. Without a reduction in mortality, queen conch are not expected to achieve the rebuilding goals established in the Sustainable Fisheries Amendment of 2005. Therefore, a change in fishing practices is needed to help achieve the necessary reductions in queen conch fishing mortality.

The Council in conjunction with NMFS will develop a DEIS to describe and analyze management alternatives to implement harvest restrictions in the queen conch fishery. The DEIS will provide updates to the best available scientific information regarding the queen conch stock, and based on the information, the Council, in conjunction with NMFS, will determine what actions and alternatives are necessary to protect queen conch. Those alternatives may include, but are not limited to: a “no action” alternative regarding the fishery, which would not require any harvest reductions; alternatives to extend existing closed seasons; and an alternative to close the area east of 64°34′ W. longitude that includes Lang Bank east of St. Croix, U.S. Virgin Islands to the harvest of queen conch.

In accordance with NOAA's Administrative Order NAO 216-6, Section 5.02(c), the Council, in conjunction with NMFS, has identified this preliminary range of alternatives as a means to initiate discussion for scoping purposes only. This may not represent the full range of alternatives that eventually will be evaluated by the Council and NMFS.

Once the Council and NMFS completes the DEIS associated with the amendment to the Caribbean queen conch FMP, NMFS will submit the DEIS for filing with the Environmental Protection Agency (EPA). The EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS) and before adopting final management measures for the amendment. The Council will submit both the final amendment and the supporting FEIS to NMFS for review under the Magnuson-Stevens Fishery Conservation and Management Act, i.e., Secretarial review.

NMFS will announce, through a notice published in the Federal Register, the availability of the final amendment for public review during the Secretarial review period. During Secretarial review, NMFS will also file the FEIS with the EPA for a final 30-day public comment period. This comment period will be concurrent with the Secretarial review period and will end prior to final agency action to approve, disapprove, or partially approve the final amendment.

NMFS will announce, through a notice published in the Federal Register, all public comment periods on the final amendment, its proposed implementing regulations, and its associated FEIS. NMFS will consider all public comments received during the Secretarial review period, whether they are on the final amendment, the proposed regulations, or the FEIS, prior to final agency action.

Scoping Meeting Dates, Times, and Locations

All scoping meetings are scheduled to be held from 7 p.m. to 10 p.m. The meetings will be physically accessible to people with disabilities. Request for sign language interpretation or other auxiliary aids should be directed to the Council (see ADDRESSES).

October 16—Windward Passage Hotel, Charlotte Amalie, St. Thomas, USVI.

October 17—Buccaneer Hotel, Christiansted, St Croix, USVI.

October 23—Pierre Hotel, De Diego Avenue, San Juan, PR.

October 24—Ponce Golf and Casino Resort, 1150 Caribe Avenue, Ponce, PR.

October 25—Mayaguez Holiday Inn, 2701 Highway #2, Mayaguez, PR.

Authority: 16 U.S.C. 1801 et seq.

Dated: October 5, 2007.
Alan D. Risenhoover,
Director, Office of Sustainable Fisheries, National Marine Fisheries Service.

[FR Doc. E7-20176 Filed 10-11-07; 8:45 am]

BILLING CODE 3510-22-S